ENVIRONMENTAL PROTECTION AGENCY

[FRL-7048-6]

Agency Information Collection Activities: Proposed Collection; Comment Request; “Stakeholder Preferences Regarding Environmental Quality, Quality of Life, and Economic Development in Survey of Cape May County, New Jersey”

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Stakeholder Preferences Regarding Environmental Quality, Quality of Life, and Economic Development in Survey of Cape May County, New Jersey, EPA ICR No. 2019.01. The ICR describes the nature of the information collection and its expected burden and cost; where appropriate, it includes the actual data collection instrument.

DATES: Comments must be submitted on or before October 9, 2001.

ADDRESSES: Send comments, referencing EPA ICR No. 2019.01 to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.Sandy@epamail.epa.gov, or download off the Internet at http://www.epa.gov/icr and refer to EPA ICR No. 2019.01. For technical questions about the ICR contact Dr. Janet L. Gamble at (202) 564-3387.

SUPPLEMENTARY INFORMATION: Title: Stakeholder Preferences Regarding Environmental Quality, Quality of Life, and Economic Development in Survey of Cape May County, New Jersey, EPA ICR No. 2019.01. This is a new collection.

Abstract: The Pennsylvania State University (PSU) in cooperation with the Global Change Research Program (GCRP) in the Office of Research and Development (ORD) of the U.S. Environmental Protection Agency (EPA) is proposing to conduct a survey of individual residents and business managers in Cape May County, New Jersey. The survey will solicit Cape May County (NJ) residents' perceptions about their quality of life, how they prioritize risks to their quality of life, and their judgments about trade-offs among alternative actions that would reduce vulnerability to these risks. The focus will be on risks related to changes in land-use practices such as development of open land, and risks related to the potential for storm damages that could accompany sea-level rise or climate change. The survey approach also will solicit business managers' perceptions of direct and indirect risks from flooding.

This data collection is motivated by the Mid-Atlantic Regional Assessment of the Potential Consequences of Climate Variability and Change (MARA), that showed that many potential impacts from climate change will exacerbate existing environmental stresses, particularly those from economic development and sea level rise. Yet little is known about how individuals and their communities are willing to make trade-offs between protection of nearby ecosystems and local economic development. This is particularly important in coastal communities where a major component of many livelihoods stems from tourism based on ecological features such as migratory bird habitat. Paradoxically, development decisions to accommodate more tourists could decrease the habitat for the ecosystems that attract tourists. This could be compounded by failing to account for climate change and for the sea-level rise that is occurring as Mid-Atlantic coastal areas subside; sea-level rise and climate change could affect both ecosystem habitat as well as developed areas. Decisions by individual citizens, businesses, developers, local planners, and environmental protection agencies could be improved by having information about the relative importance of a range of quality-of-life characteristics, including habitat and infrastructure protection, when compared with economic development. Because Cape May County has many of these features, it is an appropriate test case for identifying preferences about such trade-offs.

The data is being collected by Penn State University in collaboration with EPA/ORD Global Change Research Program, under Cooperative Agreement No. R-82840701-0. This survey is not associated with any rule-making process within the Federal government. Instead, Penn State will use this research to demonstrate the potential usefulness of such an approach for localities that want more information about tradeoffs related to development decisions. For Cape May County, the data will be used to assess the relative importance of quality-of-life characteristics and citizens' willingness to make trade-offs among actions to improve the levels and resiliency of those characteristics. The results will be useful most directly for (and are expected to be used by) the residents of Cape May County. The development, pretesting and revision, implementation, and analysis of the data will demonstrate the usefulness of the questionnaire for implementation by other communities facing similar issues.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on April 6, 2001 (66 FR 18239); no comments were received.

Burden Statement: The annual public reporting and record keeping burden for this collection of information is estimated to average 12 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Individuals/Households and Businesses/For Profit Entities.

Estimated Number of Respondents: 2125.

Frequency of Response: One time only.

Estimated Total Annual Hour Burden: 454 hours.

Estimated Total Annualized Capital, O&M Cost Burden: $ 5,000.

Send comments on the Agency's need for this information, the accuracy of the provided burden estimates, and any suggested methods for minimizing respondent burden, including through the use of automated collection techniques to the addresses listed above. Please refer to EPA ICR No. 2019.01 in any correspondence.

Dated: August 23, 2001
Oscar Morales,
Director, Collection Strategies Division.

[FR Doc. 01-22374 Filed 9-5-01; 8:45 am]

BILLING CODE 6560-50-P